DEPARTMENT OF VETERANS AFFAIRS

[OMB Control No. 2900-0648]

Agency Information Collection Activity Under OMB Review: Foreign Medical Program (FMP) Registration Form and Claim Cover Sheet

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0648.

FOR FURTHER INFORMATION CONTACT: Danny S. Green, Office of Quality, Performance and Risk (OQPR), Department of Veterans Affairs, 810 Vermont Avenue NW, Washington, DC 20420, (202) 421-1354 or email danny.green2@va.gov Please refer to “OMB Control No. 2900-0648” in any correspondence.

SUPPLEMENTARY INFORMATION:

Authority: 44 U.S.C. 3501-21.

Title: Foreign Medical Program (FMP) Registration Form and Claim Cover Sheet (VA Forms 10-7959f-1, 10-7959f-2)

OMB Control Number: 2900-0648.

Type of Review: Reinstatement without change of a previously approved collection.

Abstract: The Foreign Medical Program (FMP) is a federal health benefits program for Veterans, which is administered by the Department of Veterans Affairs (VA) Veterans Health Administration (VHA). The FMP is a Fee for Service (indemnity plan) program and provides reimbursement for VA adjudicated service-connected conditions. Title 38 CFR 17.35 states that VA will provide coverage for the Veteran's service-connected disability when the Veteran is residing or traveling overseas. Title 38 CFR 17.125(c) states that requests for consideration of claim reimbursement from approved health care providers and Veterans are to be mailed to VHA Health Administration Center.

VA currently collects information for FMP reimbursement through an OMB approved collection under 2900-0648, using VA Form 10-7959f-1, Foreign Medical Program (FMP) Registration Form, and VA Form 10-7959f-2, Foreign Medical Program Claim Cover Sheet. This collection of information is necessary to continue to reimburse Veterans or providers under the FMP.

a. VA Form 10-7959f-1 will collect information used to register into the FMP those Veterans with service-connected disabilities who are living or traveling overseas.

b. VA Form 10-7959f-2 will collect information to streamline the FMP claims submission process for claimants or providers, while also reducing the time spent by VA on processing FMP claims. The cover sheet will explain to foreign providers and Veterans the basic information required for the processing and payment of claims.

An agency may not conduct or sponsor, and a person is not required to respond to, a collection of information unless it displays a currently valid OMB control number. The Federal Register Notice with a 60-day comment period soliciting comments on this collection of information was published at 85 FR 82 on April 28, 2020, pages 23603 and 23604.

VA Form 10-7959f-1

Affected Public: Individuals and households.

Estimated Annual Burden: 111 hours.

Estimated Average Burden per Respondent: 4 minutes.

Frequency of Response: Once annually.

Estimated Number of Respondents: 1,660.

VA Form 10-7959f-2

Affected Public: Individuals or households; private sector.

Estimated Annual Burden: 3,652 hours.

Estimated Average Burden per Respondent: 11 minutes.

Frequency of Response: 12 times annually.

Estimated Number of Respondents: 1,660.

By direction of the Secretary.
Danny S. Green,
Interim VA Clearance Officer, Office of Quality, Performance and Risk (OQPR), Department of Veterans Affairs.

[FR Doc. 2020-25404 Filed 11-17-20; 8:45 am]

BILLING CODE 8320-01-P